DEPARTMENT OF ENERGY

Federal Energy Regulatory Commission

[Docket No. RP03-229-001]

Tennessee Gas Pipeline Company; Notice of Compliance Tariff Filing

March 18, 2003.

Take notice that on March 12, 2003, Tennessee Gas Pipeline Company (Tennessee), tendered for filing its Compliance Tariff Filing in the above-referenced docket.

Tennessee states that its filing revises the requirement for the posting of a notice of tap or connecting facilities subsidies on Tennessee's PASSKEY system. The submitted tariff provision would require posting of such a notice for thirty days after Tennessee enters into any such subsidy agreement. Tennessee requests that the Commission grant approval of the submitted tariff revision effective March 1, 2003.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 24, 2003.

Magalie R. Salas,
Secretary.

[FR Doc. 03-7043 Filed 3-24-03; 8:45 am]

BILLING CODE 6717-01-P